ENVIRONMENTAL PROTECTION AGENCY

[FRL-7099-9]

Notice of Proposed Agreement for Recovery of Past Response Costs Pursuant to Section 122(h) of the Comprehensive Environmental Response, Compensation and Liability Act (CERCLA), Meramec Drum Site, Arnold, Missouri, Docket No. CERCLA 07-2001-0084

AGENCY: Environmental Protection Agency (EPA).

ACTION: Notice of Proposed Agreement for Recovery of Past Response Costs, Meramec Drum Site, Arnold, Missouri.

SUMMARY: Notice is hereby given of a proposed agreement for recovery of past response costs concerning the Meramec Drum Site, Arnold, Missouri, with the following parties: Meramec Marine Shipyard, Inc., Thomas E. Dlubac and Edward Theodore Dlubac (Settling Parties). This proposed settlement was signed by the United States Environmental Protection Agency (EPA) on October 17, 2001.

DATES: EPA will receive written comments relating to the proposed agreement for recovery of past response costs by December 7, 2001.

ADDRESSES: Comments should be addressed to Cheryle Micinski, Associate Regional Counsel, United States Environmental Protection Agency, Region VII, 901 N. 5th Street, Kansas City, Kansas 66101 and should refer to the Meramec Drum Site Proposed Agreement for Recovery of Past Response Costs, Docket No. CERCLA-07-2001-0084.

The proposed settlement may be examined or obtained in person or by mail from Kathy Robinson, Regional Hearing Clerk, at the office of the United States Environmental Protection Agency, Region VII, 901 N. 5th Street, Kansas City, KS 66101, (913) 551-7567.

SUPPLEMENTARY INFORMATION: This Proposed Agreement concerns the Meramec Drum Site, located in Arnold, Missouri, and is made and entered into by EPA and the Meramec Marine Shipyard, Inc., Thomas E. Dlubac, and Edward Theodore Dlubac (Settling Parties).

In response to the release of hazardous substances at or from the Site, EPA undertook response actions at the Site pursuant to section 104 of CERCLA, 42 U.S.C. 9604. In addition, EPA provided oversite of response actions undertaken by the Settling Parties. In performing this response action, EPA incurred response costs at or in connection with the Site.

Pursuant to section 107(a) of CERCLA, 42 U.S.C. 9607(a), the Settling Parties are responsible parties and are jointly and severally liable for response costs incurred at or in connection with the Site. The Regional Administrator EPA, Region VII, or his designee, has determined that the total past and projected response costs of the United States at or in connection with the Site will not exceed $500,000, excluding interest.

This Agreement requires the Settling Parties to pay to the EPA Hazardous Substance Superfund the principal sum of $50,812 in reimbursement of Past Response Costs, plus an additional sum for interest and will resolve the Settling Parties' alleged civil liability for these costs. The proposed Agreement also includes a covenant not to sue the Settling Parties pursuant to section 107(a) of CERCLA, 42 U.S.C. 9607(a).

Dated: October 23, 2001.
James B. Gulliford,
Regional Administrator, Region VII.

[FR Doc. 01-27947 Filed 11-6-01; 8:45 am]

BILLING CODE 6560-50-P